DEPARTMENT OF LABOR

Employment and Training Administration

[TA-W-53,402]

Alamac American Knits LLC, Lumberton, NC; Notice of Termination of Investigation

Pursuant to section 221 of the Trade Act of 1974, an investigation was initiated on October 31, 2003 in response to a petition filed by a company official on behalf of workers at Alamac American Knits LLC, Lumberton, North Carolina.

The petitioner has requested that the petition be withdrawn. Consequently, the investigation has been terminated.

Signed in Washington, DC this 14th day of November 2003.
Richard Church,
Certifying Officer, Division of Trade Adjustment Assistance.

[FR Doc. 03-31534 Filed 12-22-03; 8:45 am]

BILLING CODE 4510-30-P